DEPARTMENT OF TRANSPORTATION

Federal Transit Administration

Preparation of an Environmental Impact Statement on Central Broward East-West Transit Analysis in Broward County, FL

AGENCY: Federal Transit Administration (FTA), U.S. Department of Transportation (DOT).

ACTION: Notice of intent to prepare a Draft Environmental Impact Statement (DEIS).

SUMMARY: The Federal Transit Administration (FTA) and the Florida Department of Transportation (FDOT) intend to prepare an Environmental Impact Statement (EIS) for the proposed Central Broward East-West public transportation improvements in Broward County, Florida, from Sawgrass Mills/Bank Atlantic Center in western Broward County, to the Fort Lauderdale-Hollywood International Airport in eastern Broward County, with the alignment located in the vicinity of Sawgrass Corporate Park, Interstate-595 (I-595), State Road 7 (SR 7), Broward Boulevard and Andrews Avenue. The EIS will be prepared in accordance with regulations implementing the National Environmental Policy Act (NEPA), as well as provisions of the recently enacted Safe, Accountable, Flexible, Efficient Transportation Equity Act: A Legacy for Users. The purpose of this Notice of Intent is to alert interested parties regarding the plan to prepare the EIS, to provide information on the nature of the proposed transit project, to invite participation in the EIS process, including comments on the scope of the EIS proposed in this notice, and to announce that public scoping meetings will be conducted.

DATES: Comment Due Date: Written comments on the scope of the alternatives and impacts to be considered should be sent to Mr. Scott Seeburger, Project Manager, by October 2, 2008. Addresses for the public scoping meetings are as follows.

ADDRESSES: Written comments on the project scope should be sent to Mr. Scott Seeburger, Project Manager, Florida Department of Transportation, 3400 West Commercial Boulevard, Fort Lauderdale, Florida 33309 (or by e-mail: SCOTT.SEEBURGER@DOT.STATE.FL.US; or by fax: (954) 777-4671).

Scoping meetings will be held at the following locations:

Agency Coordination Meeting

September 15, 2008, 2:30 p.m.-4:30 p.m., West Regional Library, Multi-Purpose Room, 8601 W. Broward Boulevard, Plantation, FL 33324.

Public Meetings

September 15, 2008, 5:30 p.m.-7:30 p.m., West Regional Library, Multi-Purpose Room, 8601 W. Broward Boulevard, Plantation, FL 33324.

September 17, 2008, 5:30 p.m.-7:30 p.m., African American Research Library, Seminar Rooms 1 & 2, 2650 Sistrunk Boulevard, Fort Lauderdale, FL 33311.

September 25, 2008, 6 p.m.-8 p.m., Broward General Medical Center, Auditoriums A & B, 1600 S Andrews Avenue, Fort Lauderdale, FL 33316.

These locations are accessible by persons with disabilities. If special translation or signing services or other special accommodations are needed, please contact the Project Manager. The program includes a project Web site (http://www.centralbrowardtransit.com)

FOR FURTHER INFORMATION CONTACT: Jamie Pfister, State Programs Team Leader, Federal Transit Administration, 230 Peachtree, NW., Suite 800, Atlanta, Georgia 30303, Telephone: (404) 865-5600.

SUPPLEMENTARY INFORMATION:

I. Scoping

The Central Broward East-West Transit Analysis EIS will examine improved transit service in the Central Broward East-West Corridor between Sawgrass Mills/Bank Atlantic Center and the Fort Lauderdale-Hollywood International Airport through Downtown Fort Lauderdale. The FDOT and FTA invite interested individuals, organizations, Native American Tribes, and federal, state, and local agencies to participate in defining the purpose and need for, and refining the scope of the Central Broward East-West Transit Analysis DEIS. Comments should focus on identifying any significant social, economic, or environmental issues related to the proposed alternatives. Specific suggestions related to alignment configurations to be examined, issues to be addressed, and additional alternatives are welcome and will be considered in the final scope for the study. Scoping comments should focus on the issues for analysis. Comments may be made at the scoping meetings or in writing no later than October 2, 2008. See DATES and ADDRESSES above for meeting times and locations and the address for written comments. A scoping information packet is available from Scott Seeburger at the address given above or on the project Internet Web page at http://www.centralbrowardtransit.com. See ADDRESSES above.

II. Description of Study Area and Project Purpose and Need

The study area is located in Broward County, Florida. The corridor boundaries of the study area are in the central part of Broward County, bounded generally by Oakland Park Boulevard on the north, the Sawgrass Expressway/I-75 on the west, Griffin Road on the south, and the Intracoastal Waterway in the east.

Mobility issues in this corridor have been well documented in many studies, including the I-95/I-595 Master Plan, Tri-County Commuter Rail Authority 2020 Master Plan for Broward County, Interstate 595 Freeway Operational Analysis, and the Downtown Fort Lauderdale Transit Connector Study. The purpose of the Central Broward East-West Transit Corridor Project is to provide high-quality, high-capacity transit service on an east-west axis in central Broward County to connect the major commercial and retail centers, residential areas, and the highly dense coastal area. The introduction of premium transit service to the corridor would offer an alternative means of travel for the growing number of residents, employees, and visitors in Broward County and would improve mobility throughout the region. The proposed project would support continued economic growth and development along the corridor and would be able to meet the anticipated increases in travel demand and help reduce future congestion in the corridor. Moreover, increased mobility in the corridor with fewer numbers of vehicles should help to minimize future increases in vehicle miles traveled, fuel consumption, and vehicle emissions.

In a region where high capacity transportation facilities are primarily oriented north-south, the Central Broward East-West Corridor study area is Broward County's most important and heavily traveled east-west corridor. Much of the growth in recent years has occurred in the western portion of the county, which has seen rapid growth in population, households, and employment.

III. Alternatives

The transportation alternatives proposed for consideration in this study area include:

No-Build Alternative—the No Build Alternative would consist of the “existing + committed” network plus the transit elements as described in the 2030 LRTP without the Central Broward East-West Transit Analysis.

Transportation System Management (TSM) Alternative or Baseline—the proposed TSM alternative is comprised of the No Build Alternative plus a set of express bus routes and park-and-ride facilities that are designed to serve the same travel markets as the proposed CBEWTA build alternatives. The proposed TSM alternative was developed in consultation with staff members of Broward County Transit (BCT), the Broward County MPO, District 4 of the Florida Department of Transportation and the FTA.

Build Alternative—includes the construction of a light rail line that provides service from the Sawgrass Mills area through the Sawgrass Corporate Park in the City of Sunrise, along I-595, SR 7, Broward Boulevard, to Downtown Fort Lauderdale and the Fort Lauderdale-Hollywood International Airport Intermodal Center. This alternative has been endorsed by the Central Broward East-West Transit Analysis Steering Committee, the Technical Coordinating Committee of the MPO, and the MPO Board. It includes an alignment variation serving the City of Lauderdhill that will be evaluated in the EIS.

Numerous alternatives were evaluated in the Alternatives Analysis Study completed in 2005. The Alternatives Analysis used a four-phase evaluation process, including two levels of environmental, community, and transportation alternatives screening. The first evaluation was completed during the scoping phase of the study, when six initial alignment alternatives and eight modal alternatives (including express bus, bus rapid transit, high occupancy vehicle lanes, light rail transit, heavy rail transit, commuter rail transit, automated guideway transit, and monorail transit) were identified and evaluated using criteria that were primarily qualitative. The four alignment alternatives and two modal options (bus rapid transit, light rail transit) resulting from the scoping phase were further evaluated during the initial screening phase, where a qualitative assessment of quantitative data was completed. The same set of alternatives was then subjected to an advanced screening phase using refined criteria and a more quantitative process. The MPO then selected a generalized alignment, which was further evaluated during the fourth phase. This fourth round of evaluation was necessary in order to assist the MPO in deciding between the two recommended transit technologies, BRT and LRT, and to assess variations to portions of the recommended alignment. From this, the preferred Build Alternative described above, including an alignment variant, was selected by the MPO for detailed environmental analysis.

Advanced Scoping Alternatives—As a result of the completed Alternatives Analysis, a two-level environmental, community, and transportation screening resulted in the recommendation of a Locally Preferred Alternative (LPA):

• Light rail transit running along I-595 to SR 7 to Broward Boulevard to Andrews Avenue, terminating at Fort Lauderdale/Hollywood International Airport

The LPA will undergo additional environmental screening and impact analysis including variations of the LPA that are identified through the scoping process. This may include:

• I-595 to SR 84 to I-95 to Broward Blvd and along Andrews Avenue, terminating at Fort Lauderdale/Hollywood International Airport

• I-595 to SR 7 to Davie Boulevard with a connection to Broward Boulevard and along Andrews Avenue, terminating at Fort Lauderdale/Hollywood International Airport

• I-595 to Florida's Turnpike to Broward Boulevard and along Andrews Avenue, terminating at Fort Lauderdale/Hollywood International Airport

• I-595 to SR7 to Sunrise Boulevard to Broward Boulevard and along Andrews Avenue, terminating at Fort Lauderdale/Hollywood International Airport

Based on the Scoping results, Bus Rapid Transit may be further analyzed.

IV. The EIS Process and the Role of Participating Agencies and the Public

The purpose of the EIS process is to explore, in a public setting, potentially significant effects of implementing the proposed action and alternatives on the physical, human, and natural environment. Areas of investigation include, but are not limited to, land use, development potential, land acquisition and displacements, historic resources, visual and aesthetic qualities, air quality, noise and vibration, energy use, safety and security, and ecosystems, including threatened and endangered species. Measures to avoid, minimize, or mitigate any significant adverse impacts will be identified. Participating agency requirements of the recently enacted Safe, Accountable, Flexible, Efficient Transportation Equity Act: A Legacy for Users (SAFETEA-LU), are satisfied by FDOT's Efficient Transportation Decision Making (ETDM) Process. An invitation to become a participating agency, with the scoping information packet appended, will be extended to other Federal and non-Federal agencies and Indian tribes that may have an interest in the proposed project.

A comprehensive public involvement program has been developed and a public and agency involvement Coordination Plan will be created. The program includes a project Web site (http://www.centralbrowardtransit.com); outreach to local and County officials and community and civic groups; a public scoping process to define the issues of concern among all parties interested in the project; establishment of a community advisory committee and organizing periodic meetings with that committee; a public hearing on release of the draft environmental impact statement (DEIS); establishment of walk-in project offices in the corridor; and development and distribution of project newsletters.

The purposes of and need for the proposed project have been preliminarily identified in this notice. We invite the public and participating agencies to consider the preliminary statement of purposes of and need for the proposed project, as well as the alternatives proposed for consideration. Suggestions for modifications to the statement of purposes of and need for the proposed project and any other alternatives that meet the purposes of and need for the proposed project are welcomed and will be given serious consideration. Comments on potentially significant environmental impacts that may be associated with the proposed project and alternatives are also welcomed. There will be additional opportunities to participate in the scoping process at the public meetings announced in this notice.

FDOT is seeking New Starts funding for the proposed project under 49 U.S.C. 5309 and will therefore be subject to New Starts regulations (49 CFR Part 611). The New Starts regulation requires the submission of specific information in support of a request to initiate preliminary engineering, and this information is normally developed in conjunction with the NEPA process. Pertinent New Starts evaluation criteria will be included in the Final Environmental Impact Statement.

V. FTA Procedures

In accordance with 23 CFR 771.105(a) and 771.133, FTA will comply with all Federal environmental laws, regulations, and executive orders applicable to the proposed project during the environmental review process to the maximum extent practicable. These requirements include, but are not limited to, the regulations of the Council on Environmental Quality and FTA implementing NEPA (40 CFR parts 1500-1508, and 23 CFR Part 771), the project-level air quality conformity regulation of the U.S. Environmental Protection Agency (EPA) (40 CFR part 93), the Section 404(b)(1) guidelines of EPA (40 CFR part 230), the regulation implementing Section 106 of the National Historic Preservation Act (36 CFR Part 800), the regulation implementing section 7 of the Endangered Species Act (50 CFR part 402), Section 4(f) of the DOT Act (23 CFR 771.135), and Executive Orders 12898 on environmental justice, 11988 on floodplain management, and 11990 on wetlands.

Issued on: August 25, 2008.
Yvette G. Taylor,
Regional Administrator, FTA Region 4.

[FR Doc. E8-20221 Filed 8-29-08; 8:45 am]

BILLING CODE 4910-57-P